DEPARTMENT OF AGRICULTURE

Rural Housing Service

[Docket No. RHS-26-SFH-0034]

60-Day Notice of Proposed Information Collection: Form RD 410-8 “Applicant Reference Letter” (A Request for Credit References); OMB Control No.: 0575-0091

AGENCY: Rural Housing Service (RHS), USDA.

ACTION: Notice; request for comments.

SUMMARY: In accordance with the Paperwork Reduction Act of 1995 (44 U.S.C. Chapter 35, as amended), the United States Department of Agriculture (USDA), Rural Housing Service (RHS), announces its' intention to request an revision of a currently approved information collection and invites comments on this information collection.

DATES: Comments on this notice must be received by March 30, 2026 to be assured of consideration.

ADDRESSES: Comments may be submitted by the Federal eRulemaking Portal: Go to http://www.regulations.gov and, in the “Search Field” box, labeled “Search for Rules, Proposed Rules, Notices, or Supporting Documents,” enter the following docket number: (RHS-26-SFH-0034). To submit or view public comments, click the “Documents” tab, then select the following document title: (Applicant Reference Letter (A Request for Credit Reference) from the “Search Results,” and select the “Comment” button. Before inputting your comments, you may also review the “Commenter's Checklist” (optional). Insert your comments under the “Comment” title, click “Browse” to attach files (if available). Input your email address and select “Submit Comment.” Information on using Regulations.gov, including instructions for accessing documents, submitting comments, and viewing the docket after the close of the comment period, is available through the site's “FAQ” link.

FOR FURTHER INFORMATION CONTACT: Lauren Cusick, Division Director, Rural Development Innovation Center—Regulations Management Division, United States Department of Agriculture, 1400 Independence Avenue SW, South Building, Washington, DC 20250-1522. Telephone: (202) 720-1414. Email Lauren.Cusick@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that Rural Housing Service is submitting to OMB as extension to an existing collection with Agency adjustment.

Title: Form RD 410-8 “Applicant Reference Letter” (A request for Credit Reference).

OMB Control Number: 0575-0091.

Expiration Date of Approval: June 30, 2026.

Type of Request: Revision of a currently approved information collection.

Estimate of Burden: Public reporting for this collection of information is estimated to average .10 hour per response.

Respondents: Individuals or Households.

Estimated Number of Respondents: 5,200.

Estimated Number of Annual Responses: 5,200.

Estimated Number of Annual Responses per Respondent: 1.

Estimated Total Annual Burden on Respondents: 520 hours.

Abstract: The Rural Housing Service (RHS), under Section 502 of Title V of the Housing Act of 1949, as amended, provides financial assistance to construct, improve, alter, repair, replace, or rehabilitate dwellings, which will provide modest, decent, safe, and sanitary housing to eligible individuals in rural areas. To receive a loan or grant, applicants must provide the Agency with a standard housing application (used by government and private lenders), and provide documentation, including their credit history, to support the same.

Form RD 410-8, “Applicant Reference Letter” is used by the Agency to obtain information about an applicant's credit history that does not appear on a credit report. The form can be used to document the applicant's ability to handle credit effectively in cases where an applicant has used nontraditional sources of credit which do not appear on a credit report. It also provides a mechanism for verifying repayment history for debts reported by the applicant on the loan application that do not appear on the credit report. This form asks only for specific, relevant information to determine the applicant's creditworthiness and to establish the applicant's history of prompt payments on debts. This information enables RHS to make better creditworthiness decisions.

Comments are invited on:

(a) Whether the collection of information is necessary for the proper performance of the functions of the agency, including whether the information will have practical utility.

(b) the accuracy of the agency's estimate of the burden of the collection of information including the validity of the methodology and assumptions used.

(c) ways to enhance the quality, utility, and clarity of the information to be collected; and (d) ways to minimize the burden of the collection of information on respondents, including through the use of appropriate automated, electronic, mechanical, or other technological collection techniques or other forms of information technology. All responses to this notice will be summarized and included in the request for OMB approval. All comments will become a matter of public record.

Copies of this information collection can be obtained from Kimble Brown, Rural Development Innovation Center—Regulations Management Division, at (202) 720-6780. Email: kimble.brown@usda.gov.

All responses to this notice will be summarized and included in the request for OMB approval. All comments will also become a matter of public record.

George Kelly,
Administrator, Rural Housing Service.

[FR Doc. 2026-01764 Filed 1-28-26; 8:45 am]

BILLING CODE 3410-XV-P